DEPARTMENT OF ENERGY

Federal Energy Regulatory Commission

Combined Notice of Filings

Take notice that the Commission has received the following Natural Gas Pipeline Rate and Refund Report filings:

Filings Instituting Proceedings

Docket Numbers: RP10-996-000.

Applicants: Dominion Cove Point LNG, LP.

Description: DCP—2012 Report of Operational Sales and Purchase of Gas.

Filed Date: 7/25/12.

Accession Number: 20120725-5029.

Comments Due: 5 p.m. ET 8/6/12.

Docket Numbers: RP12-821-000.

Applicants: Eastern Shore Natural Gas Company.

Description: On 6/27/2012 Fuel Retention and Cash-Out Refund Report of Eastern Shore Natural Gas Company. On 6/29/2012 Revised GRO/Cash-Out Refund Allocations Appendix D—Schedule 1 of Eastern Shore Natural Gas Company.

Filed Date: 6/29/12.

Accession Number: 20120627-5120; 20120629-5291.

Comments Due: 5 p.m. ET 7/11/12.

Docket Numbers: RP12-875-000.

Applicants: Dauphin Island Gathering Partners.

Description: 2012 Cash-Out Report of Dauphin Island Gathering Partners.

Filed Date: 7/19/12.

Accession Number: 20120719-5152.

Comments Due: 5 p.m. ET 7/31/12.

Docket Numbers: RP12-880-000.

Applicants: Trailblazer Pipeline Company LLC.

Description: Filed Date: 7/23/12.

Accession Number: 20120723-5219.

Comments Due: 5 p.m. ET 8/6/12.

Docket Numbers: RP12-908-000.

Applicants: TC Offshore LLC.

Description: TC Offshore Baseline to be effective 12/31/9998.

Filed Date: 8/1/12.

Accession Number: 20120801-5060.

Comments Due: 5 p.m. ET 8/13/12.

Docket Numbers: RP12-909-000.

Applicants: CenterPoint Energy Gas Transmission Comp.

Description: CEGT LLC—August 2012 Negotiated Rate Filing to be effective 8/1/2012.

Filed Date: 8/1/12.

Accession Number: 20120801-5071.

Comments Due: 5 p.m. ET 8/13/12.

Docket Numbers: RP12-910-000.

Applicants: Transcontinental Gas Pipe Line Company.

Description: Mid-South Expansion Project Initial Rates to be effective 9/1/2012.

Filed Date: 8/1/12.

Accession Number: 20120801-5080.

Comments Due: 5 p.m. ET 8/13/12.

Docket Numbers: RP12-911-000.

Applicants: Algonquin Gas Transmission, LLC.

Description: Imbalance Resolution Procedures to be effective 9/1/2012.

Filed Date: 8/1/12.

Accession Number: 20120801-5085.

Comments Due: 5 p.m. ET 8/13/12.

Docket Numbers: RP12-912-000.

Applicants: Maritimes & Northeast Pipeline, L.L.C.

Description: Maritimes & Northeast Pipeline, L.L.C. submits tariff filing per 154.204: Balancing Provisions to be effective 9/1/2012.

Filed Date: 8/1/12.

Accession Number: 20120801-5088.

Comments Due: 5 p.m. ET 8/13/12.

Docket Numbers: RP12-913-000.

Applicants: Texas Eastern Transmission, LP.

Description: Imbalance Resolution Procedures to be effective 9/1/2012.

Filed Date: 8/1/12.

Accession Number: 20120801-5092.

Comments Due: 5 p.m. ET 8/13/12.

Docket Numbers: RP12-914-000.

Applicants: Wyoming Interstate Company, L.L.C.

Description: WIC FL&U Filing dated August 1, 2012 to be effective 9/1/2012.

Filed Date: 8/1/12.

Accession Number: 20120801-5102.

Comments Due: 5 p.m. ET 8/13/12.

Docket Numbers: RP12-915-000.

Applicants: Petal Gas Storage, L.L.C.

Description: Changes to Billing and Payment Section to be effective 9/1/2012.

Filed Date: 8/1/12.

Accession Number: 20120801-5106.

Comments Due: 5 p.m. ET 8/13/12.

Docket Numbers: RP12-916-000.

Applicants: Transcontinental Gas Pipe Line Company.

Description: Negotiated Rates—Mid South Expansion to be effective 9/1/2012.

Filed Date: 8/1/12.

Accession Number: 20120801-5110.

Comments Due: 5 p.m. ET 8/13/12.

Docket Numbers: RP12-917-000.

Applicants: Sabine Pipe Line LLC.

Description: Sabine Tariff Filing Section 7.25 to be effective 9/1/2012.

Filed Date: 8/1/12.

Accession Number: 20120801-5118.

Comments Due: 5 p.m. ET 8/13/12.

Docket Numbers: RP12-918-000.

Applicants: Northwest Pipeline GP.

Description: JP Final Incremental Storage Rates to be effective 9/1/2012.

Filed Date: 8/1/12.

Accession Number: 20120801-5136.

Comments Due: 5 p.m. ET 8/13/12.

Docket Numbers: RP12-919-000

Applicants: Trailblazer Pipeline Company LLC.

Description: 2012-08-01 NC K's Mieco, CIMA, Enserco to be effective 8/2/2012.

Filed Date: 8/1/12.

Accession Number: 20120801-5140.

Comments Due: 5 p.m. ET 8/13/12.

Docket Numbers: RP12-920-000.

Applicants: Rockies Express Pipeline LLC.

Description: 2012-08-01 Amendment to NC K ConocoPhillips to be effective 8/2/2012.

Filed Date: 8/1/12.

Accession Number: 20120801-5141.

Comments Due: 5 p.m. ET 8/13/12.

Any person desiring to intervene or protest in any of the above proceedings must file in accordance with Rules 211 and 214 of the Commission's Regulations (18 CFR 385.211 and § 385.214) on or before 5 p.m. Eastern time on the specified comment date. Protests may be considered, but intervention is necessary to become a party to the proceeding.

Filings in Existing Proceedings

Docket Numbers: RP06-298-016.

Applicants: Public Service Commission of New York v.

Description: Semi-Annual Report of Operational Sales of Gas filed by National Fuel Gas Supply Corporation.

Filed Date: 7/3/12.

Accession Number: 20120703-5128.

Comments Due: 5 p.m. ET 7/16/12.

Docket Numbers: RP12-808-001.

Applicants: Northern Natural Gas Company.

Description: 20120801 Miscellaneous Compliance Filing to be effective 7/19/2012.

Filed Date: 8/1/12.

Accession Number: 20120801-5126.

Comments Due: 5 p.m. ET 8/13/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated August 2, 2012.
Nathaniel J. Davis, Sr.,
Deputy Secretary

[FR Doc. 2012-19620 Filed 8-9-12; 8:45 am]

BILLING CODE 6717-01-P